DEPARTMENT OF THE INTERIOR

National Park Service

[NPS-WASO-NAGPRA-NPS0036059; PPWOCRADN0-PCU00RP14.R50000]

Notice of Inventory Completion: Penn State University, Matson Museum of Anthropology, University Park, PA

AGENCY: National Park Service, Interior.

ACTION: Notice.

SUMMARY: In accordance with the Native American Graves Protection and Repatriation Act (NAGPRA), the Matson Museum of Anthropology, Penn State University has completed an inventory of human remains and has determined that there is no cultural affiliation between the human remains and any Indian Tribe. The human remains were removed from Cass County, MN.

DATES: Disposition of the human remains and associated funerary objects in this notice may occur on or after July 24, 2023.

ADDRESSES: Dr. James Doyle, Director, Matson Museum of Anthropology, Penn State University, 410 Carpenter Building, University Park, PA 16802, telephone (814) 865-2033, email matsonmuseum@psu.edu.

SUPPLEMENTARY INFORMATION: This notice is published as part of the National Park Service's administrative responsibilities under NAGPRA. The determinations in this notice are the sole responsibility of the Matson Museum of Anthropology, Penn State University. The National Park Service is not responsible for the determinations in this notice. Additional information on the determinations in this notice, including the results of consultation, can be found in the inventory or related records held by the Matson Museum of Anthropology, Penn State University.

Description

Human remains representing, at minimum, eight individuals were removed from the Leech River area in Cass County, MN. In 1978, Mrs. Bertha H. Lucas donated these human remains to Pennsylvania State University. Since 1902, her husband, Mr. Howard K. Lucas, had been collecting prehistoric items, and during the 1920s and 1930s, he purchased some items from other collectors. The human remains (Penn State Lot 27), consisting of seven skulls, one unassociated mandible, and disarticulated teeth, belong to two adult females (PSU27:130, PSU27:131), one young adult female (PSU27:112), two elderly adult males (PSU27:114; PSU27:164), one adult male (PSU27:149), one adult of indeterminate sex (PSU27:113), and one individual of indeterminate age and sex (no PSU number). No associated funerary objects are present.

Aboriginal Land

The human remains in this notice were removed from known geographic locations. These locations are the aboriginal lands of one or more Indian Tribes. The following information was used to identify the aboriginal land: the 1837 Pine Tree Treaty and the 1855 Treaty of Washington.

Determinations

Pursuant to NAGPRA and its implementing regulations, and after consultation with the appropriate Indian Tribes, the Matson Museum of Anthropology, Penn State University has determined that:

• The human remains described in this notice represent the physical remains of, at minimum, eight individuals of Native American ancestry.

• No relationship of shared group identity can be reasonably traced between the human remains and any Indian Tribe.

• The human remains described in this notice were removed from the aboriginal land of the Minnesota Chippewa Tribe, Minnesota (Leech Lake Band).

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after July 24, 2023. If competing requests for disposition are received, the Matson Museum of Anthropology, Penn State University must determine the most appropriate requestor prior to disposition. Requests for joint disposition of the human remains are considered a single request and not competing requests. The Matson Museum of Anthropology, Penn State University is responsible for sending a copy of this notice to the Indian Tribe identified in this notice.

Authority: Native American Graves Protection and Repatriation Act, 25 U.S.C. 3003, and the implementing regulations, 43 CFR 10.9 and 10.11.

Dated: June 14, 2023.
Melanie O'Brien,
Manager, National NAGPRA Program.

[FR Doc. 2023-13297 Filed 6-21-23; 8:45 am]

BILLING CODE 4312-52-P